ARCTIC RESEARCH COMMISSION

Notice of Meeting

Notice is hereby given that the U.S. Arctic Research Commission will hold its 73rd Meeting in Durham, NH, on October 5-8, 2004. The Business Session open to the public will convene at 9 a.m. Tuesday, October 5; the Agenda items include:

(1) Call to order and approval of the Agenda.

(2) Approval of the Minutes of the 72nd Meeting.

(3)Reports from Congressional Liaisons.

(4)Agency Reports.

The focus of the Meeting will be reports and updates on programs and research projects affecting the U.S. Arctic. Presentations include a review of the research needs for civil infrastructure in Alaska.

The Business Session will reconvene at 9 a.m. Wednesday, October 6, 2004. An Executive Session will follow adjournment of the Business Session.

Any person planning to attend this meeting who requires special accessibility features and/or auxiliary aids, such as sign language interpreters must inform the Commission in advance of those needs.

FOR FURTHER INFORMATION CONTACT: Dr. Garrett W. Brass, Executive Director, Arctic Research Commission, (703) 525-0111 or TDD (703) 306-0090.

Garrett W. Brass,
Executive Director.

[FR Doc. 04-22037 Filed 9-30-04; 8:45 am]

BILLING CODE 7555-01-M